FEDERAL COMMUNICATIONS COMMISSION

Notice of Public Information Collection(s) Being Reviewed by the Federal Communications Commission

January 26, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 8, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0810.

Title: Procedures for Designation of Eligible Telecommunications Carriers Pursuant to Section 214(e)(6) of the Communications Act of 1934, as amended.

Form No.: N/A.

Type of Review: Extension of a currently approved collection.

Respondents: Business or other for-profit.

Number of Respondents: 120.

Estimated Time Per Response: 10-60 hours.

Frequency of Response: Third party disclosure requirement, on occasion reporting requirements.

Total Annual Burden: 6,200 hours.

Total Annual Cost: N/A.

Needs and Uses: Section 214(e)(6) states that a telecommunications carrier that is not subject to the jurisdiction of a state may request that the Commission determine whether it is eligible. The Commission must evaluate whether such telecommunications carriers meet the eligibility criteria set forth in the Act, specified in the Public Notice, and also the Order. Carriers seeking designation for service provided on non-tribal lands must provide an affirmative statement from a court of competent jurisdiction or the state commission that the state lacks jurisdiction over the carrier.

OMB Control No.: 3060-0854.

Title: Truth-in-Billing Format—CC Docket No. 98-170.

Form No.: N/A.

Type of Review: Extension of a currently approved collection.

Respondents: Business or other for-profit.

Number of Respondents: 3,099.

Estimated Time Per Response: 5-465 hours.

Frequency of Response: Third party disclosure requirement and on occasion reporting requirement.

Total Annual Burden: 1,565,775 hours.

Total Annual Cost: $1,000,000-$9,000,000.

Needs and Uses: The Commission adopted rules to make consumers' telephone bills easier to read and understand. Telephone bills do not provide necessary information in a user-friendly format. As a result, consumers are experiencing difficulty in understanding their bills, in detecting fraud, in resolving billing disputes, and in comparing carrier rates to get the best value for themselves. The information will be used by consumers to help them understand their telephone bills. Consumers need this information to protect them against fraud and to help them resolve billing disputes if they wish.

Federal Communications Commission.
Magalie Roman Salas,
Secretary.

[FR Doc. 01-3020 Filed 2-5-01; 8:45 am]

BILLING CODE 6712-01-P